DEPARTMENT OF ENERGY

Federal Energy Regulatory Commission

[Docket No. AC12-53-000]

Kern River Gas Transmission Company; Notice of Filing

Take notice that on March 29, 2012, Kern River Gas Transmission Company (Kern River) submitted a request for authorization to retroactively adjust the amount of allowance for funds used during construction (AFUDC) capitalized as a component of the construction costs of its Apex Expansion project (Apex), by recording AFUDC on the Apex project as though it was compounded monthly during construction as opposed to semiannually in accordance with Commission policy.¹ Additionally, Kern River requests authorization to compound AFUDC on current and prospective projects on a monthly basis.

¹ See Amendments to Uniform System of Accounts for Public Utilities and Licensees and for Natural Gas Companies (Classes A, B, C, and D) to Provide for the Determination of Rate for Computing Allowance for Funds Used During Construction and Revisions of Certain Schedule Pages of FPC Reports, Order No. 561, 57 FPC 608 (1977), reh'g denied, Order No. 561-A, 59 FPC 1340 (1977), order on clarification, 2 FERC P 61,050 (1978).

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: May 17, 2012.

Dated: April 17, 2012.
Kimberly D. Bose,
Secretary.

[FR Doc. 2012-9764 Filed 4-23-12; 8:45 am]

BILLING CODE 6717-01-P